ENVIRONMENTAL PROTECTION AGENCY

40 CFR Part 52

[CA 040-0448b; FRL-7662-1]

Revisions to the California State Implementation Plan, El Dorado County Air Pollution Control District, Feather River Air Quality Management District, Kern County Air Pollution Control District, Sacramento Metropolitan Air Quality Management District, San Bernardino County Air Pollution Control District, Santa Barbara County Air Pollution Control District, and Yolo-Solano Air Pollution Control District

AGENCY: Environmental Protection Agency (EPA).

ACTION: Proposed rule.

SUMMARY: EPA is proposing to approve revisions to the El Dorado County Air Pollution Control District (EDCAPCD), Feather River Air Quality Management District (FRAQMD), Kern County Air Pollution Control District (KCAPCD), Sacramento Metropolitan Air Quality Management District (SMAQMD), San Bernardino County Air Pollution Control District (now Mojave Desert Air Quality Management District) (MDAQMD), Santa Barbara County Air Pollution Control District (SBCAPCD), and Yolo-Solano Air Pollution Control District (YSAPCD) portions of the California State Implementation Plan (SIP). Under authority of the Clean Air Act as amended in 1990 (CAA or the Act), we are proposing to approve local rules that address emission statements.

DATES: Any comments on this proposal must arrive by June 25, 2004.

ADDRESSES: Send comments to Andy Steckel, Rulemaking Office Chief (AIR-4), U.S. Environmental Protection Agency, Region IX, 75 Hawthorne Street, San Francisco, CA 94105-3901, or e-mail to steckel.andrew @epa.gov, or submit comments at http://www.regulations.gov.

You can inspect copies of the submitted SIP revisions, EPA's technical support documents (TSDs), and public comments at our Region IX office during normal business hours by appointment. You may also see copies of the submitted SIP revisions by appointment at the following locations:

California Air Resources Board, Stationary Source Division, Rule Evaluation Section, 1001 “I” Street, Sacramento, CA 95814.

El Dorado County Air Pollution Control District, 2850 Fairlane Court, Building C, Placerville, CA 95667-4100.

Feather River Air Quality Management District, 938-14th Street, Marysville, CA 95901-4149.

Kern County Air Pollution Control District, 2700 “M” Street, Suite 302, Bakersfield, CA 93301-2370.

Mojave Desert Air Quality Management District, 14306 Park Avenue, Victorville, CA 92392-2310.

Sacramento Metropolitan Air Quality Management District, 777-12th Street, Third Floor, Sacramento, CA 95814-1908.

Santa Barbara County Air Pollution Control District, 26 Castilian Drive, Suite B-23, Goleta, CA 93117-3027.

Yolo-Solano Air Quality Management District, 1947 Galileo Court, Suite 103, Davis, CA 95616-4882.

Copies of these rules may also be available via the Internet at the following sites respectively, http://www.arb.ca.gov/drdb/ drdbltxt.htm. Please be advised that this is not an EPA Web site and may not contain the same version of the rules that were submitted to EPA.

FOR FURTHER INFORMATION CONTACT: Julie A. Rose, EPA Region IX, (415) 947-4126, rose.julie@epa.gov.

SUPPLEMENTARY INFORMATION: This proposal addresses the following local rules:

Table 1.—Submitted Rules
Local agency | Rule No. | Rule title | Adopted | Submitted
EDCAPCD | 1000 | Emission Statement | 09/21/92 | 11/12/92
FRAQMD | 4.8 | Further Information | 09/14/92 | 11/12/92
KCAPCD | 108.2 | Emission Statement Requirements | 07/13/92 | 11/12/92
MDAQMD | 107 | Certification and Emission Statements | 09/17/92 | 11/12/92
SMAQMD | 105 | Emission Statement | 04/20/93 | 11/18/93
SBCAPCD | 212 | Emission Statements | 10/20/92 | 11/12/92
YSAPCD | 3.18 | Emission Statements | 11/15/92 | 11/18/93

In the rules and regulations section of this Federal Register, we are approving these local rules in a direct final action without prior proposal because we believe these SIP revisions are not controversial. If we receive adverse comments, however, we will publish a timely withdrawal of the direct final rule and address the comments in subsequent action based on this proposed rule.

We do not plan to open a second comment period, so anyone interested in commenting should do so at this time. If we do not receive adverse comments, no further activity is planned. For further information, please see the direct final action.

Dated: May 3, 2004.
Wayne Nastri,
Regional Administrator, Region IX.

[FR Doc. 04-11770 Filed 5-25-04; 8:45 am]

BILLING CODE 6560-50-P